DEPARTMENT OF THE INTERIOR

National Park Service

National Register of Historic Places; Notification of Pending Nominations

Nominations for the following properties being considered for listing in the National Register were received by the National Park Service before March 13, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, (202) 371-6447. Written or faxed comments should be submitted by April 15, 2004.

Carol D. Shull,
Keeper of the National Register of Historic Places.

CALIFORNIA

Alameda County

Berkeley Hillside Club, 2286 Cedar St., Berkeley, 04000332.

Fresno County

Hotel Californian, 851 Van Ness Ave., Fresno, 04000333.

Humboldt County

Zanone, Magdalena House, 1604 G St., Eureka, 04000335.

Los Angeles County

House at 1015 Prospect Boulevard, (Residential Architecture of Pasadena: Influence of the Arts and Crafts Movement MPS), 1015 Prospect Blvd., Pasadena, 04000322.

House at 1141 North Chester Avenue, (Residential Architecture of Pasadena: Influence of the Arts and Crafts Movement MPS), 1141 N. Chester Ave., Pasadena, 04000326.

House at 1240 North Los Robles, (Residential Architecture of Pasadena: Influence of the Arts and Crafts Movement MPS), 1240 N. Los Robles Ave., Pasadena, 04000329.

House at 1487 Loma Vista Street, (Residential Architecture of Pasadena: Influence of the Arts and Crafts Movement MPS), 1487 Loma Vista St., Pasadena, 04000323.

House at 674 Elliot Drive, (Residential Architecture of Pasadena: Influence of the Arts and Crafts Movement MPS), 674 Elliot Dr., Pasadena, 04000325.

Lower Arroyo Seco Historic District, (Residential Architecture of Pasadena: Influence of the Arts and Crafts Movement MPS), Roughly Arroyo Blvd., W. California Blvd., La Loma Blvd., Pasadena, 04000331.

Park Place—Arroyo Terrace Historic District, (Residential Architecture of Pasadena: Influence of the Arts and Crafts Movement MPS), 368-440 Arroyo Terrace, 200-240 N. Grand Ave., 201-239 N. Orange Grove Blvd., Pasadena, 04000324.

Merced County

Church of St. Joseph, 1109 K St., Los Banos, 04000330.

San Francisco County

Building at 735 Market Street, 735 Market St., San Francisco, 04000327.

San Mateo County

Folger Estate Stable Historic District, 4040 Woodside Rd., Woodside, 04000328.

Sonoma County

De Turk Round Barn, 819 Donahue St., Santa Rosa, 04000334.

COLORADO

Denver County

Fourth Church of Christ, Scientist, 3101 W. 31st Ave., Denver, 04000336.

Morgan County

Trail School, Old, (Rural School Buildings in Colorado MPS), 421 High St., Wiggins, 04000337.

GEORGIA

Clarke County

Cobb, T.R.R., House, 175 Hill St., Athens, 04000362.

Crisp Count,

O'Neal School Neighborhood Historic District, Roughly bounded by the Seaboard Coastline Railroad, Owens St. 16th Ave. and 6th St., Cordele, 04000339.

Murray County

Spring Place Historic District, Approx. 2.5 mi. W of Chatsworth, E of jct. of GA 52 A and GA 225, Spring Place, 04000338.

IOWA

Dubuque County

Epworth School, 310 W. Main St., Epworth, 04000340.

Scott County

Maycrest College Historic District, Portions of 1500 and 1600 blks of W. 12th St., Davenport, 04000341.

MISSOURI

Buchanan County

Livestock Exchange Building, 601 Illinois Ave., St. Joseph, 04000342.

St. Louis County

Olive Chapel African Methodist Episcopal Church, (Kirkwood MPS), 309 S. Harrison Ave., Kirkwood, 04000345.

St. Louis Independent City

Cotton Belt Freight Depot, 1400 N. 1st St., St. Louis (Independent City), 04000344.

Weber Implement and Automobile Company Building, 1815 Locust St., St. Louis (Independent City), 04000343.

NEW YORK

Albany County

Fonda House, 55 Western Ave., Cohoes, 04000351.

Valley Paper Mill Chimney and Site, NY 143 at Cty Rd. 111, Alcove, 04000350.

Broome County

Stone Spillway, National Defense Stockpile Center, N of Gilmore Ave., Hilcrest, 04000347.

Chenango County

District School 4, NY 235, Coventry, 04000353.

Delaware County

First Presbyterian Church of Margaretville, 169 Orchard Ave., Margaretville, 04000348.

Greene County

Church of St. John the Evangelist, Philadelphia Hill Rd., Hunter, 04000352.

Monroe County

Browncroft Historic District, Roughly bounded by Browncroft Blvd., Newcastle, Blossom, and Winton Rds., Rochester, 04000346.

Westchester County

Somers Hamlet Historic District, US 202, NY 100, NY 116, Deans Bridge Rd. and The Lane, Somers, 04000349.

SOUTH CAROLINA

Laurens County

Gray Court—Owings School, 9210 SC 14, Gray Court, 04000354.

Newberry County

Newberry County Memorial Hospital, 1300-1308 Hunt St., Newberry, 04000355.

WASHINGTON

King County

Point Robinson Light Station, (Light Stations of the United States MPS), NE end of Maury Island in Puget Sount, Vashon Island, 04000359.

WEST VIRGINIA

Braxton County

Haymond, William Edgar, House, 110 S. Stonewall St., Sutton, 04000356.

Fayette County

New River Company General Office Building, 411 Main St., Mt. Hope, 04000357.

Hancock County

Rigas, Dr. George, House, 3412 West St., Weirton, 04000358.

WISCONSIN

Marathon County

East Hill Residential Historic District, Roughly bounded by North Seventh, Adams, North Tenth, Scott and North Bellis Sts., Wausau, 04000360.

Sauk County

Corwith, J.W., Livery, (Reedsburg MRA), 121 S.Webb Ave. Reedsburg, 84004018.

A request for Removal has been made for the following resource:

GEORGIA

Clarke County

Cobb, T.R.R., House, 194 Prince Ave., Athens, 75000579.

[FR Doc. 04-7139 Filed 3-30-04; 8:45 am]

BILLING CODE 4312-51-P